DEPARTMENT OF THE INTERIOR

Bureau of Land Management

[NV-930-1430-ET; NVN-77027; 3-08808]

Notice of Proposed Withdrawal and Opportunity for Public Meeting; Nevada

AGENCY: Bureau of Land Management, Interior.

ACTION: Notice.

SUMMARY: The Bureau of Land Management has received a request from the United States Fish and Wildlife Service to withdraw 640 acres of public land from surface entry and mining to protect and manage breeding ground for migratory birds and other wildlife values. Administrative jurisdiction of the land would be transferred to the Fish and Wildlife Service for inclusion in the Ruby Lake National Wildlife Refuge. This notice segregates the land from surface entry and mining for up to 2 years while various studies and analyses are made to support a final decision on the withdrawal application.

DATES: Comments and requests for a meeting should be received on or before October 7, 2003.

ADDRESSES: Comments and meeting requests should be sent to the Nevada State Director, BLM, 1340 Financial Blvd., PO Box 12000, Reno, Nevada 89520-0006.

FOR FURTHER INFORMATION CONTACT: Dennis J. Samuelson, BLM Nevada State Office, 775-861-6532.

SUPPLEMENTARY INFORMATION: The United States Fish and Wildlife Service has filed an application to withdraw the following described public land from settlement, sale, location, or entry under the general land laws, including the mining laws, but not the mineral leasing laws, subject to valid existing rights:

Mount Diablo Meridian

T 25 N., R. 57 E.,

Sec. 11, SE¼NW¼ and N½SE¼;

Sec. 12, W½NE¼, NW¼, E½SW¼, NW¼SW¼, and W½SE¼;

Sec. 13, NW¼NE¼ and NE¼NW¼.

The area described contains 640 acres in White Pine County.

The land proposed for withdrawal is an isolated tract of public land within the boundary of the Ruby Lake National Wildlife Refuge. The land would be withdrawn from settlement, sale, location, or entry under the general land laws, including the mining laws, but not the mineral leasing laws, to protect and manage breeding ground for migratory birds and other wildlife values. Administrative jurisdiction would be transferred to the Fish and Wildlife Service for inclusion in the Refuge.

For a period of 90 days from the date of publication of this notice, all persons who wish to submit comments, suggestions, or objections in connection with the proposed withdrawal may present their views in writing to the Nevada State Director of the Bureau of Land Management.

Notice is hereby given that an opportunity for a public meeting is afforded in connection with the proposed withdrawal. All interested persons who desire a public meeting for the purpose of being heard on the proposed withdrawal must submit a written request to the Nevada State Director within 90 days from the date of publication of this notice. Upon determination by the authorized officer that a public meeting will be held, a notice of the time and place will be published in the Federal Register at least 30 days before the scheduled date of the meeting.

Comments, including names and street addresses of commenters, will be available for public review at the Ely Field Office, 702 North Industrial Way, Ely, Nevada, during regular business hours 7:30 a.m. to 4:30 p.m., Monday through Friday, except holidays. Individual respondents may request confidentiality. If you wish to hold your name or address from public review or from disclosure under the Freedom of Information Act, you must state this prominently at the beginning of your comments. Such requests will be honored to the extent allowed by law. All submissions from organizations or businesses, will be made available for public inspection in their entirety.

The application will be processed in accordance with the regulations set forth in 43 CFR part 2300.

For a period of 2 years from July 9, 2003, in accordance with 43 CFR 2310.2(a), the land will be segregated from surface entry and mining, unless the application is denied or canceled, or the withdrawal is approved prior to that date. Other uses which will be permitted during this segregative period are rights-of-way, leases, and permits.

Dated: July 1, 2003.
Jim Stobaugh,
Lands Team Lead.

[FR Doc. 03-17392 Filed 7-8-03; 8:45 am]

BILLING CODE 4310-HC-P